DEPARTMENT OF AGRICULTURE

Commodity Credit Corporation

Notice of Request for Extension and Revision of a Currently Approved Information Collection

AGENCY: Commodity Credit Corporation, USDA.

ACTION: Notice and request for comments.

SUMMARY: In accordance with the Paperwork Reduction Act of 1995, this notice announces the intention of the Commodity Credit Corporation (CCC) to request an extension for and revision to a currently approved information collection in support of the CCC's Export Enhancement Program (EEP) and the CCC's Dairy Export Incentive Program (DEIP) based on re-estimates.

DATES: Comments on this notice must be received by August 1, 2003.

ADDITIONAL INFORMATION OR COMMENTS: Contact William S. Hawkins, Director, Program Administration Division, Foreign Agricultural Service, U.S. Department of Agriculture, AgBox 1031, Washington, DC 20250-1031, telephone (202) 720-3241.

SUPPLEMENTARY INFORMATION: Title: CCC's Export Enhancement Program (EEP) and CCC's Dairy Export Incentive Program (DEIP).

OMB Number: 0551-0028.

Expiration Date of Approval: September 30, 2003.

Type of Request: Extension and revision of a currently approved information collection.

Abstract: The major objective of the EEP and DEIP is to expand U.S. agricultural exports by paying cash to exporters as bonuses, allowing them to sell U.S. agricultural products in targeted countries at competitive prices. Currently, 120 countries and 3 country regions are targeted export destinations and 850 exporters are eligible to participate under either or both programs. Under 7 CFR part 1494, exporters are required to submit the following: (1) Information required for program participation (section 1494.301), (2) performance security (section 1494.401), (3) export sales information in connection with applying for a CCC bonus (section 1494.501), and (4) evidence of export and related information (section 1494.701). In addition, each exporter must maintain accurate records showing sales and deliveries of the eligible commodity exported in connection with an agreement made under the EEP or DEIP as outlined in section 1494.1001. The information collected is used by CCC to manage, plan for, evaluate the use of, and account for Government resources. The reports and records are required to ensure the proper and judicious use of public funds.

Estimate of Burden: The public reporting burden for these collections is estimated to average 1.08 hours per response.

Respondents: Exporters of U.S. agricultural commodities, banks or other financial institutions, producer associations, export trade associations, and U.S. Government agencies.

Estimated Number of Respondents: 40 per annum.

Estimated Number of Responses per Respondent: 47.4 per annum.

Estimated Total Annual Burden on Respondents: 2,047.68 hours.

Copies of this information collection can be obtained from Kimberly Chisley, the Agency Information Collection Coordinator, at (202) 720-2568.

Requests for comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to William S. Hawkins, Director, Program Administration Division, Foreign Agricultural Service, U.S. Department of Agriculture, AgBox 1031, Washington, DC 20250-1031, or to the Desk Officer for Agriculture, Office of Information and Regulatory Affairs, Office of Management and Budget, Washington, DC 20503. All responses to this notice will be summarized and included in the request for OMB approval. All comments will also become a matter of public record.

Signed at Washington, DC, on May 23, 2003.
A. Ellen Terpstra,
Administrator, Foreign Agricultural Service.

[FR Doc. 03-13602 Filed 5-30-03; 8:45 am]

BILLING CODE 3410-10-M